DEPARTMENT OF HEALTH AND HUMAN SERVICES

Meeting of the Chronic Fatigue Syndrome Advisory Committee

AGENCY: Department of Health and Human Services, Office of the Secretary, Office of Public Health and Science.

ACTION: Notice.

SUMMARY: As stipulated by the Federal Advisory Committee Act, the U.S. Department of Health and Human Services is hereby giving notice that the Chronic Fatigue Syndrome Advisory Committee (CFSAC) will hold a meeting. The meeting will be open to the public.

DATES: The meeting will be held on Wednesday, October 13 from 9 a.m. until 5 p.m. and Thursday, October 14, 2010 from 9 a.m. until 4 p.m. CFSAC Subcommittees will hold scientific review sessions on Tuesday, October 12 from 8:30 a.m. until 5 p.m.

ADDRESSES: Department of Health and Human Services; Room 800, Hubert H. Humphrey Building; 200 Independence Avenue, SW., Washington, DC 20201. For a map and directions to the Hubert H. Humphrey building, please visit http://www.hhs.gov/about/hhhmap.html.

FOR FURTHER INFORMATION CONTACT: Wanda K. Jones, DrPH; Executive Secretary, Chronic Fatigue Syndrome Advisory Committee, Department of Health and Human Services; 200 Independence Avenue, SW., Hubert Humphrey Building, Room 712E; Washington, DC 20201. Please direct all inquiries to cfsac@hhs.gov.

SUPPLEMENTARY INFORMATION: CFSAC was established on September 5, 2002. The Committee was established to advise, consult with, and make recommendations to the Secretary, through the Assistant Secretary for Health, on a broad range of topics including (1) The current state of the knowledge and research about the epidemiology and risk factors relating to chronic fatigue syndrome, and identifying potential opportunities in these areas; (2) current and proposed diagnosis and treatment methods for chronic fatigue syndrome; and (3) development and implementation of programs to inform the public, health care professionals, and the biomedical, academic, and research communities about advances in chronic fatigue syndrome.

The agenda for this meeting is being developed. The agenda will be posted on the CFSAC Web site, http://www.hhs.gov/advcomcfs, when it is finalized. The meeting will be broadcast over the Internet as a real-time streaming video. It also will be recorded and archived on the CFSAC Web site for on demand viewing.

CFSAC Subcommittees will convene scientific review sessions on Tuesday, October 12. The purpose of these sessions is to update the latest developments in etiology, natural history, clinical trials, and related areas for chronic fatigue syndrome. The public is welcome to attend these sessions, which are not a formal part of the Advisory Committee meeting. These sessions will be broadcast over the Internet as a real-time streaming video. It also will be recorded and archived on the CFSAC Web site for on demand viewing. An agenda will be posted on the CFSAC Web site when it becomes available.

Public attendance at the meeting is limited to space available. Individuals must provide a government-issued photo ID for entry into the building where the meeting is scheduled to be held. Those attending the meeting will need to sign-in prior to entering the meeting room. Individuals who plan to attend and need special assistance, such as sign language interpretation or other reasonable accommodations, should notify the designated contact person at cfsac@hhs.gov in advance.

Members of the public will have the opportunity to provide comment at the October 13-14 meeting if pre-registered. Individuals who wish to address the Committee during the public comment session must pre-register by Friday, September 17, 2010, via e-mail at cfsac@hhs.gov. Time slots for public comment will be available on a first-come, first-served basis. Public comment will be limited to five minutes per speaker; no exceptions will be made. Individuals registering for public comment should submit a copy of their testimony in advance to cfsac@hhs.gov, prior to the close of business on Friday, September 17, 2010.

Members of the public who wish to have printed material distributed to CFSAC members for review should submit one copy of the material to the Executive Secretary, at cfsac@hhs.gov, prior to close of business on September 17, 2010. Submissions are limited to five typewritten pages. Any written testimony submitted after this date will be available for inspection on-site and will be posted to the Web site after the meeting.

If you do not submit your written testimony prior to the close of business Friday, September 17, 2010, you may bring a copy of your written testimony to the meeting and present it to the CFSAC Executive Secretary. Your testimony will be included in a notebook that will be available for viewing by the public on a table at the back of the meeting room.

Please ensure that written testimony does not include any personal information including your personal mailing address and that it includes only your name, if you wish to be identified. If you wish to remain anonymous, please notify the CFSAC Executive Secretary upon submission of the materials to cfsac@hhs.gov.

Dated: August 31, 2010.
Wanda K. Jones,
Executive Secretary, Chronic Fatigue Syndrome Advisory Committee.

[FR Doc. 2010-22393 Filed 9-7-10; 8:45 am]

BILLING CODE 4150-42-P